DEPARTMENT OF HEALTH AND HUMAN SERVICES

National Institutes of Health

Center for Scientific Review; Amended Notice of Meeting

Notice is hereby given of a change in the meeting of the Center for Scientific Review Special Emphasis Panel, June 25, 2013, 8:00 a.m. to June 25, 2013, 5:00 p.m., National Institutes of Health, 6701 Rockledge Drive, Bethesda, MD, 20892 which was published in the Federal Register on May 28, 2013, 78 FR Pg 31951-31952.

The meeting will be held on June 26, 2013 instead of June 25, 2013 at 8:00 a.m. and will end at 5:00 p.m. The meeting location remains the same. The meeting is closed to the public.

Dated: June 10, 2013.
Melanie J. Gray,
Program Analyst, Office of Federal Advisory Committee Policy.

[FR Doc. 2013-14127 Filed 6-13-13; 8:45 am]

BILLING CODE 4140-01-P